DEPARTMENT OF ENERGY

Federal Energy Regulatory Commission

[Docket No. ER01-1822-003, et al.]

Indigo Generation, LLC, et al.; Electric Rate and Corporate Filings

November 15, 2004.

The following filings have been made with the Commission. The filings are listed in ascending order within each docket classification.

1. Indigo Generation, LLC, Larkspur Energy LLC, Wildflower Energy LP

[Docket No. ER01-1822-003]

Take notice that on November 8, 2004, Indigo Generation LLC (Indigo Generation), Larkspur Energy LLC (Larkspur Energy) and Wildflower Energy LP (Wildflower Energy) (collectively, the Wildflower Entities) filed a notice of change in status in connection with the sale by InterGen North America, Inc. of all of its equity interests, which were indirectly held through Wildflower Development LLC, in the Wildflower Entities, to Diamond Generating Corporation. Indigo states that Larkspur Energy and Indigo Generation, which are subsidiaries of Wildflower Energy, own and operate two natural gas-fired peaker plants with an aggregate net generating capacity of 232 megawatts located in Southern California.

Comment Date: 5 p.m. eastern time on November 29, 2004.

2. PJM Interconnection, L.L.C.

[Docket No. ER02-1326-010]

Take notice that on November 8, 2004, PJM Interconnection, L.L.C. (PJM) submitted for filing an amendment to its report entitled “Compliance Report to the FERC Docket No. ER02-1326-000 Assessment of PJM Load Response Programs” prepared by the PJM Market Monitoring Unit, originally filed on November 1, 2004, and corrected on November 3, 2004.

Comment Date: 5 p.m. eastern time on November 29, 2004.

3. Midwest Independent Transmission System Operator, Inc., Northern Indiana Public Service Company

[Docket No. ER05-190-001]

Take notice that on November 8, 2004, the Midwest Independent Transmission System Operator, Inc. (Midwest ISO) and Northern Indiana Public Service Company (NIPSCO) (collectively, Applicants), filed an amendment to the Applicants' November 5, 2004, filing of proposed revisions to the Midwest ISO Open Access Transmission Tariff. Applicants request an effective date of December 1, 2004.

The Midwest ISO states that it has electronically served a copy of this filing, with attachments, upon all Midwest ISO Members, Member representatives of Transmission Owners and Non-Transmission Owners, the Midwest ISO Advisory Committee participants, as well as all state commissions within the region. The Midwest ISO also states that in addition, the filing has been electronically posted on the Midwest ISO's Web site at http://www.midwestiso.org under the heading “Filings to FERC” for other interested parties in this matter. The Midwest ISO further states that it will provide hard copies to any interested parties upon request.

Comment Date: 5 p.m. eastern time on November 29, 2004.

4. El Paso Electric Company

[Docket No. ER05-193-000]

Take notice that on November 8, 2004, El Paso Electric Company (EPE) submitted a Notice of Cancellation of El Paso Electric Company Electric Rate Schedule No. 48, an Interruptible Transmission Service Agreement between Salt River Project Agricultural Improvement and Power District and EPE. EPE requests an effective date of January 1, 2005.

Comment Date: 5 p.m. eastern time on November 29, 2004.

5. American Electric Power Service Corporation

[Docket No. ER05-194-000]

Take notice that on November 8, 2004, American Electric Power Service Corporation (AEPSC), on behalf of AEP Texas North Company (AEP TNC), submitted for filing a Generation Interconnection Agreement between AEP TNC and the Public Service Company of Oklahoma (PSO) as Operation Project Manager on Behalf of the Participants in Oklaunion Unit No. 1. AEPSC requests an effective date of November 15, 2004.

AEPSC states that copies of the filing were served on PSO and the Public Utility Commission of Texas.

Comment Date: 5 p.m. eastern time on November 29, 2004.

6. Boston Edison Company

[Docket No. ER05-196-000]

Take notice that on November 8, 2004, Boston Edison Company (BECo) tendered for filing an Interconnection Agreement and a Distribution Service Agreement between BECo and the Massachusetts Bay Transportation Authority. BECo requests an effective date of February 1, 2003.

BECo states that copies of the filing were served upon the Massachusetts Department of Telecommunications and Energy.

Comment Date: 5 p.m. eastern time on November 29, 2004.

7. Virginia Electric and Power Company

[Docket No. ER05-197-000]

Take notice that on November 8, 2004, Virginia Electric and Power Company (Dominion Virginia Power) tendered for filing an executed Standard Large Generator Interconnection Agreement (LGIA) with CPV Warren, LLC (CPV) setting forth the terms and conditions governing the interconnection between CPV's generating facility and Dominion Virginia Power's transmission system. Dominion Virginia Power requests an effective date of November 9, 2004.

Dominion Virginia Power states that copies of the filing were served upon CPV and the Virginia State Corporation Commission.

Comment Date: 5 p.m. eastern time on November 29, 2004.

8. Commonwealth Chesapeake Company, LLC

[Docket No. ER05-198-000]

Take notice that, on November 9, 2004, Commonwealth Chesapeake Company, L.L.C. (Commonwealth Chesapeake) submitted revisions to its market-based FERC Electric Tariff, Second Revised Volume No. 1 to include the Market Behavior Rules adopted by the Commission in Investigation of Terms and Conditions of Public Utility Market-Based Rate Authorizations, 105 FERC ¶ 61,218 (2003). Commonwealth Chesapeake states that the filing also revises Commonwealth Chesapeake's Tariff to incorporate the pagination and other requirements of the Commission's order, Designation of Electric Rate Schedule Sheets, 90 FERC ¶ 61,352 (2000).

Comment Date: 5 p.m. eastern time on November 29, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E4-3266 Filed 11-19-04; 8:45 am]

BILLING CODE 6717-01-P